DEPARTMENT OF JUSTICE

Antitrust Division

Notice Pursuant to the National Cooperative Research and Production Act of 1993; Members of SGIP 2.0, Inc.

Notice is hereby given that, on October 11, 2013, pursuant to Section 6(a) of the National Cooperative Research and Production Act of 1993, 15 U.S.C. 4301 et seq. (“the Act”), Members of SGIP 2.0, Inc. (“MSGIP 2.0”) has filed written notifications simultaneously with the Attorney General and the Federal Trade Commission disclosing changes in its membership. The notifications were filed for the purpose of extending the Act's provisions limiting the recovery of antitrust plaintiffs to actual damages under specified circumstances. Specifically, Lafayette Utilities System, Lafayette, LA; Machine-to-Machine Intelligence Corporation (M2Mi), Moffett Field, CA; Inman Technology, Cambridge, MA; Kkrish Energy LLC, Colorado Springs, CO; Smarthome Laboratories, Ltd., Boulder, CO; and Gridtest Systems Inc., Westlake Village, CA, have been added as parties to this venture. Also, Alcatraz Energy, Boulder, CO, has withdrawn as a party to this venture.

No other changes have been made in either the membership or planned activity of the group research project. Membership in this group research project remains open, and MSGIP 2.0 intends to file additional written notifications disclosing all changes in membership.

On February 5, 2013, MSGIP 2.0 filed its original notification pursuant to Section 6(a) of the Act. The Department of Justice published a notice in the Federal Register pursuant to Section 6(b) of the Act on March 7, 2013 (78 FR 14836).

The last notification was filed with the Department on July 22, 2013. A notice was published in the Federal Register pursuant to Section 6(b) of the Act on August 26, 2013 (78 FR 52786).

Patricia A. Brink,
Director of Civil Enforcement, Antitrust Division.

[FR Doc. 2013-29275 Filed 12-6-13; 8:45 am]

BILLING CODE P